DEPARTMENT OF THE INTERIOR

Bureau of Land Management

[ID-320-5700-10; IDI-35397; DGG-07-0001]

Proposed Plan Amendment

AGENCY: Bureau of Land Management, (BLM), Interior.

ACTION: Notice of intent to amend the 1988 Pocatello Resource Management Plan.

SUMMARY: Notice is hereby given that the Bureau of Land Management (BLM) proposes to amend the 1988 Pocatello Resource Management Plan (RMP) pursuant to the regulations at 43 CFR Part 1600, with respect to management of 400 acres of Federal land in Bannock County, Idaho.

Upon publication of this notice in the Federal Register, the lands will be segregated from all other forms of appropriation under the public land laws, including the general mining laws, except for conveyance under the Recreation and Public Purposes Act and leasing under the mineral leasing laws. Interested parties may submit written comments and recommendations regarding the land use plan amendment. Before including your address, phone number, e-mail address, or other personal identifying information in your comment, you should be aware that your entire comment—including your personal identifying information—may be made publicly available at any time. While you can ask us in your comment to withhold your personal identifying information from public review, we cannot guarantee that we will be able to do so.

Comments: Interested parties may submit comments as to whether the land is physically suited for landfill purposes, whether the use will maximize the future use or uses of the land, whether the land use is consistent with local planning and zoning, or if the use is consistent with State and Federal programs.

DATES: Comments will be accepted regarding the Plan Amendment, for a period of 30 days, or until September 28, 2007.

ADDRESSES: Send written comments to: David Pacioretty, Pocatello Field Manager, 4350 Cliffs Drive, Pocatello, Idaho 83201.

FOR FURTHER INFORMATION CONTACT: Candi Aguirre, Realty Specialist, 208-478-6357.

SUPPLEMENTARY INFORMATION:

Boise Meridian, Bannock County, Idaho

T. 7 S., R. 35 E.

Sec. 28: SW¼NW¼,

Sec. 29: NE¼SE¼, SE¼SE¼,

Sec. 32: NE¼NE¼, SE¼NE¼,

Sec. 33: NW¼, NW¼NE¼.

Containing 400 acres more or less.

The County of Bannock has submitted an application to acquire these public lands near the community of Pocatello, Bannock County, Idaho to expand their existing landfill, known as the Fort Hall Mine Landfill. This site is expected to reach capacity by the year 2010. The lands applied for are not needed for Federal purposes and lie adjacent to the existing landfill. The 1988 RMP did not identify these lands for transfer out of public ownership but stated that land disposals would be considered through plan amendments where unforeseen needs are identified. The plan also reflected BLM policy of that time in stating that BLM would no longer lease or patent land for landfill purposes under R&PP Act because of the liability associated with hazardous waste disposals. BLM policy later changed as the R&PP Act was amended by Congress to allow public land to be conveyed for landfill purposes without the customary reversionary clause required for R&PP patents.

Dated: August 20, 2007.
David Pacioretty,
Pocatello Field Manager.

[FR Doc. E7-17073 Filed 8-28-07; 8:45 am]

BILLING CODE 4310-GG-P